DEPARTMENT OF COMMERCE

International Trade Administration

Export Trade Certificate of Review

ACTION: Notice of application to amend certificate.

SUMMARY: The Office of Export Trading Company Affairs (“OETCA”), International Trade Administration, Department of Commerce, has received an application to amend an Export Trade Certificate of Review (“Certificate”). This notice summarizes the proposed amendment and requests comments relevant to whether the amended Certificate should be issued.

FOR FURTHER INFORMATION CONTACT: Vanessa M. Bachman, Acting Director, Office of Export Trading Company Affairs, International Trade Administration by phone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice in writing to: Office of Export Trading Company Affairs, International Trade Administration, Department of Commerce, Room 1104H, Washington, D.C. 20230, or transmitted by E-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 97-4A003.”

The Association for the Administration of Rice Quotas, Inc. (“AARQ”) original Certificate was issued on January 21, 1998 (63 FR 4223, January 28, 1998) and last amended on June 1, 2000 (65 FR 36410, June 8, 2000). A summary of the application for an amendment follows.

Summary of the Application

Applicant: The Association for the Administration of Rice Quotas, Inc. (“AARQ”), c/o Ludovico Manfredi, Newfieldrice, Inc., 1401 Brickell Avenue, Suite 332, Miami, FL 33131.

Contact: M. Jean Anderson, Esquire, Telephone: (202) 682-7217.

Application No.: 97-4A003.

Date Deemed Submitted: January 10, 2001.

Proposed Amendment: AARQ seeks to amend its Certificate to:

1. Add the following companies as new “Members” of the Certificate within the meaning of section 325.2(1) of the Regulations (15 CFR 325.2(1)): Alliance Grain, Inc., Voorhees, NJ (Controlling Entity: ConAgra Foods, Inc., Omaha); Associated Rice Marketing Cooperative, Durham, CA; California Rice Marketing, LLC, Sacramento, CA; The Sun Valley Rice Co., LLC, Arbuckle;

2. Delete the following company as a “Member” of the Certificate within the meaning of section 325.2(1) of the Regulations (15 CFR 325.2(1)): ContiGroup Companies, Inc., New York, New York;

3. Change the listings of the current Members as follows: “AC HUMKO, Corp., Cordova, Tennessee” should be amended to “ACH Food Companies, Inc., Cordova, Tennessee;” “California Commodity Traders, LLC, Sacramento, California” should be amended to “California Commodity Traders, LLC, Robbins, California and its affiliate, American Commodity Company, LLC, Robbins, California;” “ConAgra, Inc. for the activities of KBC Trading and Processing Company, Stockton, California” should be amended to “ConAgra Foods, Inc., Omaha, Nebraska, and its subsidiary, Alliance Grain, Inc., Voorhees, New Jersey;” “Kennedy Rice Dryers, Inc., Mer Rouge, Louisiana” should be amended to “Kennedy Rice Dryers, L.L.C., Mer Rouge, Louisiana;” “Kitoku America, Inc., Davis, California (a subsidiary of Kitoku Co., Ltd.)” should be amended to “Kitoku America, Inc., Davis, California (a subsidiary of Kitoku Shinryo Co., Ltd.);” “Newfield Partners Ltd., Miami, Florida” should be amended to “Newfieldrice, Inc., Miami, Florida;” “The Connell Company, Westfield, New Jersey” should be amended to “The Connell Company, Berkeley Heights, New Jersey.”

Dated: January 16, 2001.
Vanessa M. Bachman,
Acting Director, Office of Export Trading Company Affairs.

[FR Doc. 01-1844 Filed 1-22-01; 8:45 am]

BILLING CODE 3510-DR-P